ENVIRONMENTAL PROTECTION AGENCY

[ER-FRL-9001-8]

Environmental Impacts Statements; Notice of Availability

Responsible Agency: Office of Federal Activities, General Information (202) 564-7146 or http://www.epa.gov/compliance/nepa/.

Weekly receipt of Environmental Impact Statements

Filed 02/20/2012 Through 02/24/2012

Pursuant to 40 CFR 1506.9.

Notice

Section 309(a) of the Clean Air Act requires that EPA make public its comments on EISs issued by other Federal agencies. EPA's comment letters on EISs are available at: http://www.epa.gov/compliance/nepa/eisdata.html.

EIS No. 20120043, Draft EIS, USFS, CA, On Top Hazardous Fuels Reduction Project, To Disclose the Environmental Effects of a Federal Proposal on National Forest System (NFS) Land, Plumas National Forest, Feather River Ranger District, Plumas, Butte Counties, CA, Comment Period Ends: 04/16/2012, Contact: Carol Spinos, 530-534-6500;

EIS No. 20120044, Final EIS, BR, WA, PROGRAMMATIC—Yakima River Basin Integrated Water Resource Management Plan, To Meet the Water Supply and Ecosystem Restoration Needs, Benton, Kittitas, Klickitat and Yakima Counties, WA, Review Period Ends: 04/02/2012, Contact: Candace McKinley, 509-575-5848 ext. 613;

EIS No. 20120045, Final EIS, USACE, FL, St. Lucie County South Beach and Dune Restoration Project, To Restore Recreational Beach, Restore Beach and Habitat, and Reduce Storm Damage Due to Beach Erosion, St. Lucie County, FL, Review Period Ends: 04/02/2012, Contact: Garett Lipps, 561-472-3519;

EIS No. 20120046, Draft EIS, NPS, VI, Buck Island Reef National Monument General Management Plan, Implementation, St. Croix, Virgin Islands, Comment Period Ends: 05/01/2012, Contact: Joel A. Tutein, 340-773-1460;

EIS No. 20120047, Draft EIS, BIA, WA, West Plains Casino and Mixed-Use Development Project, Approval of Gaming Development and Management, Spokane Tribe of Indians, Spokane County, WA, Comment Period Ends: 04/16/2012, Contact: Dr. B.J. Howerton, 503-231-6749;

EIS No. 20120048, Draft EIS, NPS, WI, Ice Age Complex at Cross Plains General Management Plan, Implementation, Ice Age National Scenic Trail, Dane County, WI, Comment Period Ends: 04/30/2012, Contact: Pam Shuler, 608-441-5610;

EIS No. 20120049, Final EIS, GSA, DC, Department of Homeland Security Headquarters Consolidation at St. Elizabeth's Master Plan Amendment—East Campus North Parcel, St. Elizabeth's Campus in Southeast Washington, DC, Review Period Ends: 04/02/2012, Contact: Denise Decker, 202-538-5643;

EIS No. 20120050, Final Supplement, USFS, MT,Grizzly Vegetation and Transportation Management Project, Updated and Additional Information, Proposes Timber Harvest, Prescribed Burning, Road Maintenance, and Transportation Management Actions, Three Rivers Ranger District, Kootenai National Forest, Lincoln County, MT, Review Period Ends: 04/02/2012, Contact: Leslie McDougall, 406-295-4693;

EIS No. 20120051, Draft EIS, BLM, AK, Eastern Interior Resource Management Plan, To Provide Comprehensive Framework to Guide Management of Public Lands, AK, Comment Period Ends: 07/30/2012, Contact: Jeanie Cole, 907-474-2200;

EIS No. 20120052, Final EIS, USFS, ID, Little Slate Project, Proposes Watershed Improvement, Timber Harvest, Fuel Treatments, Soil Restoration and Access Changes in the Little Slate Creek, Salmon River Ranger District, Nez Perce National Forest, Idaho County, ID, Review Period Ends: 04/02/2012, Contact: Tammy Harding, 208-935-4263.

Amended Notices

EIS No. 20120005, Draft EIS, NRCS, HI, WITHDRAWN—South Kona Watershed Irrigation System, To Provide Supplemental Irrigation Water to Farms in the Honomalino/Kapu'a Area, Funding, County of Hawaii, HI, Comment Period Ends: 03/05/2012, Contact: Sharon Sawdey, 808-541-2600, ext. 125.

Revision to FR Notice Published 1/20/2012: Officially Withdrawn by the Preparing Agency.

Dated: February 28, 2012.
Cliff Rader,
Director, NEPA Compliance Division, Office of Federal Activities.

[FR Doc. 2012-5131 Filed 3-1-12; 8:45 am]

BILLING CODE 6560-50-P